DEPARTMENT OF COMMERCE

International Trade Administration

[A-533-810]

Stainless Steel Bar From India: Final Results of Antidumping Duty Administrative Review; 2019-2020

AGENCY: Enforcement and Compliance, International Trade Administration, Department of Commerce.

SUMMARY: The Department of Commerce (Commerce) determines that the sole mandatory respondent made sales of stainless steel bar (SS Bar) from India below normal value during the period of review (POR) February 1, 2019, through January 31, 2020.

DATES: Applicable August 25, 2021.

FOR FURTHER INFORMATION CONTACT: Konrad Ptaszynski, AD/CVD Operations, Office I, Enforcement and Compliance, International Trade Administration, U.S. Department of Commerce, 1401 Constitution Avenue NW, Washington, DC 20230; telephone: (202) 482-6187.

SUPPLEMENTARY INFORMATION:

Background

On February 24, 2021, Commerce published in the Federal Register the Preliminary Results of the 2019-2020 administrative review of the antidumping duty order on SS Bar from India.¹ We invited interested parties to comment on the Preliminary Results and on March 26, 2021, Venus Wire Industries Pvt. Ltd., Hindustan Inox, Precision Metals and Sieves Manufacturers (India) Pvt. Ltd. (collectively, the Venus Group) submitted a timely filed case brief.² On April 2, 2021, the petitioners ³ submitted a timely filed rebuttal brief.⁴

¹ See Stainless Steel Bar from India: Preliminary Results of Antidumping Duty Administrative Review; 2019-2020; 86 FR 11235 (February 24, 2021), and accompanying Preliminary Decision Memorandum (Preliminary Results).

² See Venus Group's Letter, “Antidumping Duty Investigation of Stainless Steel Bar from India—Venus Group Case Brief,” dated March 26, 2021.

³ Carpenter Technology Corporation, Crucible Industries LLC, Electralloy, a Division of G.O. Carlson, Inc., North American Stainless, Universal Stainless & Alloy Products, Inc., and Valbruna Slater Stainless, Inc. (collectively, the petitioner).

⁴ See Petitioner's Letter, “Stainless Steel Bar from India Petitioners' Rebuttal Brief,” dated April 2, 2021.

Scope of the Order

The products covered by the antidumping duty Order ⁵ are SS Bar. A full description of the scope of the Order is contained in the Issues and Decision Memorandum.⁶

⁵ See Antidumping Duty Orders: Stainless Steel Bar from Brazil, India and Japan, 60 FR 9661 (February 21, 1995) (Order).

⁶ See Memorandum, “Issues and Decision Memorandum for the Final Results of the Antidumping Duty Administrative Review of Stainless Steel Bar from India; 2019-2020,” dated concurrently with, and hereby adopted by, this notice (Issues and Decision Memorandum).

Analysis of Comments Received

All issues raised in the case and rebuttal briefs filed by interested parties in this review are addressed in the Issues and Decision Memorandum. A list of the issues that parties raised, and to which we responded in the Issues and Decision Memorandum, follows as an appendix to this notice. The Issues and Decision Memorandum is a public document and is made available to the public electronically via Enforcement and Compliance's Antidumping and Countervailing Duty Centralized Electronic Service System (ACCESS). ACCESS is available to registered users at http://access.trade.gov. In addition, a complete version of the Issues and Decision Memorandum can be accessed directly on the internet at http://enforcement.trade.gov/frn/.

Rate for Non-Selected Respondent

We preliminarily applied a rate based on the rate calculated for the only company not selected for individual examination, Ambica Steels Limited (Ambica), in the 2018-2019 administrative review (i.e., 0.00). No party commented on the Preliminary Results regarding the rate for the non-selected company. Therefore, for these final results, we continue to assign 0.00 percent to Ambica.

Changes Since the Preliminary Results

Based on a review of the record and comments received from interested parties regarding our Preliminary Results, and for the reasons explained in the Issues and Decision Memorandum, we did not make changes to the Preliminary Results.

Use of Adverse Facts Available

Pursuant to sections 776(a) and 776(b) of the Act, Commerce continues to base the Venus Group's dumping margin on total AFA because it failed to provide information requested by the applicable deadlines. For the reasons explained in the Issues and Decision Memorandum, we have continued to apply an AFA rate of 30.92 percent to the Venus Group.

Final Results of Administrative Review

As a result of this administrative review, Commerce determines that the following dumping margin exists for the period February 1, 2019, through January 31, 2020:

Producer/exporter | Dumping margin (percent)
Precision Metals, and its affiliated companies including Hindustan Inox, Precision Metals and Sieves Manufacturers (India) Pvt. Ltd | 30.92
Rate Applicable to the Following Non-Selected Company:
Ambica Steels Limited | 0.00

Disclosure

Normally, Commerce discloses the calculations performed in connection with final results of an administrative review within five days of any public announcement or, if there is no public announcement, within five days of the date of publication of this notice of final results in the Federal Register, in accordance with 19 CFR 351.224(b). However, because Commerce applied total AFA to the only mandatory respondent under review in accordance with section 776 of the Act, there are no calculations to disclose to any interested party.

Assessment Rates

Pursuant to section 751(a)(2)(A) of the Act and 19 CFR 351.212(b), Commerce has determined, and U.S. Customs and Border Protection (CBP) shall assess, antidumping duties on all appropriate entries of subject merchandise in accordance with the final results of this review. Commerce will instruct CBP to apply an ad valorem assessment rate of 30.92 percent to all entries of subject merchandise during the POR from the Venus Group. Because the rate assigned to Ambica is zero,⁷ Commerce will instruct CBP to liquidate the appropriate entries without regard to antidumping duties.⁸

⁷ In the Preliminary Results, Commerce inadvertently stated “. . . , we will instruct CBP to apply an ad valorem assessment rate of 30.92 percent to all entries of subject merchandise during the POR from the Venus Group and Ambica.” See Preliminary Results. We intended to state that we will instruct CBP to apply an ad valorem assessment of 30.92 percent to the Venus Group, and instruct CBP to liquidate the appropriate entries for Ambica without regard to antidumping duties.

⁸ See Antidumping Proceedings: Calculation of the Weighted-Average Dumping Margin and Assessment Rate in Certain Antidumping Duty Proceedings; Final Modification, 77 FR 8101, 8103 (February 14, 2012).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of this notice for all shipments of SS Bar entered, or withdrawn from warehouse, for consumption on or after the date of publication as provided by section 751(a)(2) of the Act: (1) The cash deposit rates for the companies subject to this review will be equal to the dumping margin established in the final results of the review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; (4) the cash deposit rate for all other producers or exporters will continue to be 12.45 percent, the all-others rate established in the less-than-fair-value investigation for this proceeding.⁹ These cash deposit requirements, when imposed, shall remain in effect until further notice.

⁹ See Notice of Final Determination of Sales at Less Than Fair Value: Stainless Steel Bar from India, 59 FR 66915, 66921 (December 28, 1994).

Notification to Importers

This notice serves as a final reminder to importers of their responsibility under 19 CFR 351.402(f)(2) to file a certificate regarding the reimbursement of antidumping duties prior to liquidation of the relevant entries during this POR. Failure to comply with this requirement could result in Commerce's presumption that reimbursement of the antidumping duties occurred and the subsequent assessment of doubled antidumping duties.

Administrative Protective Order

This notice also serves as a reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

Notification to Interested Parties

Commerce is issuing and publishing this notice in accordance with sections 751(a)(1) and 777(i)(1) of the Act and 19 CFR 351.221(b)(5).

Dated: August 19, 2021.
Ryan Majerus,
Deputy Assistant Secretary for Policy and Negotiations.

Appendix

Issues and Decision Memorandum

I. Summary

II. List of Issues

III. Background

IV. Scope of the Order

V. Use of Facts Otherwise Available and Adverse Inferences

VI. Analysis of Comments

Comment 1: Whether Commerce Should Continue to Apply Total Adverse Facts Available to the Venus Group

Comment 2: Whether Commerce Should Continue to Apply the Rate Applied to Mukand in the 2010-2011 the Administrative Review as the AFA Rate to the Venus Group

VII. Recommendation

[FR Doc. 2021-18281 Filed 8-24-21; 8:45 am]

BILLING CODE 3510-DS-P